NUCLEAR REGULATORY COMMISSION

Consolidated Decommissioning Guidance; Notice of Availability

AGENCY: Nuclear Regulatory Commission.

ACTION: Notice of availability.

SUMMARY: The U.S. Nuclear Regulatory Commission (NRC) is announcing the availability of two volumes of NUREG-1757, “Consolidated Decommissioning Guidance.” The first volume is “Consolidated Decommissioning Guidance: Decommissioning Process for Materials Licensees” (NUREG-1757, Vol. 1, Rev. 2), which provides guidance for planning and implementing the termination of materials licenses. The second volume, “Consolidated Decommissioning Guidance: Characterization, Survey, and Determination of Radiological Criteria” (NUREG-1757, Vol. 2, Rev. 1), provides guidance for compliance with the radiological criteria for termination of licenses. The guidance is intended for use by NRC staff and licensees. It is also available to Agreement States and the public.

ADDRESSES: NUREG-1757 is available for inspection and copying for a fee at the Commission's Public Document Room, NRC's Headquarters Building, 11555 Rockville Pike (First Floor), Rockville, Maryland. The Public Document Room is open from 7:45 a.m. to 4:15 p.m., Monday through Friday, except on Federal holidays. NUREG-1757 is also available electronically on the NRC Web site at: http://www.nrc.gov/reading-rm/doc-collections/nuregs/staff/sr1757/, and from the ADAMS Electronic Reading Room on the NRC Web site at: http://www.nrc.gov/reading-rm/adams.html.

FOR FURTHER INFORMATION, CONTACT: Duane W. Schmidt, Mail Stop T-7E18, U.S. Nuclear Regulatory Commission, Washington, DC 20555-0001. Telephone: (301) 415-6919; e-mail: dws2@nrc.gov.

SUPPLEMENTARY INFORMATION: In September 2003, NRC staff consolidated and updated the policies and guidance of its decommissioning program in a three-volume NUREG series, NUREG-1757, “Consolidated Decommissioning Guidance.” This NUREG series provides guidance on: planning and implementing license termination under NRC's License Termination Rule (LTR), in the Code of Federal Regulations, Title 10, Part 20, Subpart E; complying with the radiological criteria of the LTR for license termination; and complying with the requirements for financial assurance and recordkeeping for decommissioning and timeliness in decommissioning of materials facilities. The staff periodically updates NUREG-1757, so that it reflects current NRC decommissioning policy.

In September 2005, the staff issued, for public comment, Draft Supplement 1 to NUREG-1757, which contained proposed updates to the three volumes of NUREG-1757 (70 FR 56940; September 29, 2005). Draft Supplement 1 included new and revised decommissioning guidance that addresses some issues with implementation of the LTR. These issues include restricted use and institutional controls, onsite disposal of radioactive materials, selection and justification of exposure scenarios based on reasonably foreseeable future land use, intentional mixing of contaminated soil, and removal of material after license termination. The staff also developed new and revised guidance on other issues, including engineered barriers.

The staff received stakeholder comments on Draft Supplement 1 and prepared responses to these comments. The stakeholder comments and the NRC staff responses are located on NRC's decommissioning Web site, at http://www.nrc.gov/what-we-do/regulatory/decommissioning/reg-guides-comm.html. Supplement 1 has not been finalized as a separate document; instead, updated sections from Supplement 1 have been placed into the appropriate locations in revisions of Volumes 1 and 2 of NUREG-1757.

Volume 1 of NUREG-1757, entitled “Consolidated Decommissioning Guidance: Decommissioning Process for Materials Licensees,” takes a risk-informed, performance-based approach to the information needed and the process to be followed to support an application for license termination for a materials licensee. Volume 1 is intended to be applicable only to the decommissioning of materials facilities licensed under 10 CFR Parts 30, 40, 70, and 72 and to the ancillary surface facilities that support radioactive waste disposal activities licensed under 10 CFR Parts 60, 61, and 63. However, parts of Volume 1 are applicable to reactor licensees, as described in the Foreword to the volume.

Volume 2 of the NUREG series, entitled, “Consolidated Decommissioning Guidance: Characterization, Survey, and Determination of Radiological Criteria,” provides technical guidance on compliance with the radiological criteria for license termination of the LTR. Volume 2 is applicable to all licensees subject to the LTR.

The staff plans to revise Volume 3 of this NUREG series at a later date, and that revision will incorporate the Supplement 1 guidance that is related to Volume 3.

NUREG-1757 is intended for use by NRC staff and licensees. It is also available to Agreement States and the public. This NUREG is not a substitute for NRC regulations, and compliance with it is not required. The NUREG describes approaches that are acceptable to NRC staff. However, methods and solutions different than those in this NUREG will be acceptable, if they provide a basis for concluding that the decommissioning actions are in compliance with NRC regulations.

Congressional Review Act (CRA)

In accordance with the Congressional Review Act (CRA) of 1996, the NRC has determined that this action is not a major rule and has verified this determination with the Office of Information and Regulatory Affairs of the Office of Management and Budget.

Dated at Rockville, MD, this 19th day of December, 2006.
For the Nuclear Regulatory Commission.
Keith I. McConnell,
Deputy Director, Decommissioning & Uranium Recovery Licensing Directorate, Division of Waste Management and Environmental Protection, Office of Federal and State Materials and Environmental Management Programs.

[FR Doc. E6-22248 Filed 12-27-06; 8:45 am]

BILLING CODE 7590-01-P